DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Admittance to Practice and Roster of Registered Patent Attorneys and Agents Admitted to Practice Before the United States Patent and Trademark Office (USPTO).

Form Number(s): PTO-158, PTO-158A, PTO-275, PTO-107A, PTO-1209, PTO 2125, PTO 2126, PTO 2149.

Agency Approval Number: 0651-0012.

Type of Request: Revision of a currently approved collection.

Burden: 97,282 hours annually.

Number of Respondents: 72,280 responses per year.

Avg. Hours per Response: The USPTO estimates that it will take the registered practitioner or agent approximately 10 minutes (0.17 hours) to complete the forms for annual practitioner registration renewal, the request for voluntary inactive status, and the request for restoration to active status from voluntary inactive status. It is estimated to take 2 hours (2.0) to complete the continuing education program by a registered attorney or agent with delinquency. It is estimated to take and 2 hours and 10 minutes (2.17 hours) to complete the continuing education program by a registered attorney or agent with delinquency and reinstatement, and 2 hours and 15 minutes (2.25 hours) for the paper-based version of the annual practitioner registration/continuing legal education program—15 minutes (0.25 hours) to request the materials and an average of 2 hours (2.0) to complete the continuing legal education exam on paper. It is estimated to take 15 minutes (0.25 hours) for a sponsor to complete the application for pre-approval of a continuing education program. It is expected to take 6 hours (6.0) to complete the registration examination to become a registered patent practitioner. It is expected to take 40 hours (40.0) to complete the petition for reinstatement after disciplinary removal. These times include time to gather the necessary information, and prepare and submit the forms and requirements in this collection.

Needs and Uses: This information is required by 35 U.S.C. 2(b)(2)(D), administered by the USPTO through 37 CFR 10.5-10.11 and 10.170. The information is used by the Director of the Office of Enrollment and Discipline (OED) to determine if the applicant for registration is of good moral character and repute; has the necessary legal, scientific, and technical qualifications; and is otherwise competent to advise and assist applicants in the presentation and prosecution of applications for patent grants. The USPTO is submitting this collection in support of a proposed rulemaking, “Changes to Representation of Others Before the United States Patent and Trademark Office “ (RIN 0651-AB55). In this notice of proposed rulemaking, the USPTO is proposing to update the rules and procedures regarding the enrollment and recognition of individuals to practice as attorneys and agents before the USPTO in patent, trademark, and other non-patent matters. These proposed changes are also expected to improve how the USPTO handles applications for registration and petitions.

Affected Public: Individuals or households; business or other for-profit; the Federal Government; and State, Local or Tribal Governments.

Frequency: On occasion.

Respondent's Obligation: Required to obtain or retain benefits.

OMB Desk Officer: David Rostker, (202) 395-3897.

Copies of the above information collection proposal can be obtained by calling or writing Susan K. Brown, Records Officer, Office of the Chief Information Officer, Office of Data Architecture and Services, (703) 308-7400, U.S. Patent and Trademark Office, P.O. Box 1450, Alexandria, Virginia 22313, Attn: CPK 3 Suite 310, or by e-mail at susan.brown@uspto.gov.

Written comments and recommendations for the proposed information collection should be sent on or before October 31, 2003 to David Rostker, OMB Desk Officer, Room 10202, New Executive Office Building, Washington, DC 20503.

Dated: September 24, 2003.
Susan K. Brown,
Records Officer, USPTO, Office of Data Architecture and Services, Data Administration Division.

[FR Doc. 03-24850 Filed 9-30-03; 8:45 am]

BILLING CODE 3510-16-P